DEPARTMENT OF ENERGY

Federal Energy Regulatory Commission

[Docket No. EL05-4-000]

Duke Power, a Division of Duke Power Corporation; Notice of Initiation of Proceeding and Refund Effective Date

December 21, 2004.

On December 15, 2004, the Commission issued an order in the above-docketed proceeding. The Commission's order institutes a proceeding in Docket No. EL05-4-000 under section 206 of the Federal Power Act with respect to the justness and reasonableness of Duke Power's market-based rates.

The refund effective date in Docket No. EL05-4-000, established pursuant to section 206(b) of the Federal Power Act will be 60 days following publication of this notice in the Federal Register.

Magalie R. Salas,
Secretary.

[FR Doc. E4-3845 Filed 12-28-04; 8:45 am]

BILLING CODE 6717-01-P